DEPARTMENT OF TRANSPORTATION

Federal Aviation Administration

14 CFR Part 39

[Docket No. FAA-2015-8428; Directorate Identifier 2014-NM-032-AD]

RIN 2120-AA64

Airworthiness Directives; Airbus Airplanes

AGENCY: Federal Aviation Administration (FAA), DOT.

ACTION: Supplemental notice of proposed rulemaking (SNPRM); reopening of comment period.

SUMMARY: We are revising an earlier proposal to supersede Airworthiness Directive (AD) 2011-17-09 for all Airbus Model A330-200, -200 Freighter, and -300 series airplanes; and AD 2012-25-12 for all Airbus Model A330-200 and -300 series airplanes. The notice of proposed rulemaking (NPRM) proposed to require revising the maintenance or inspection program, as applicable, to incorporate new or revised airworthiness limitation requirements. The NPRM was prompted by revisions to certain airworthiness limitations items (ALI) documents, which specify more restrictive instructions and/or airworthiness limitations. This action revises the NPRM by proposing to require revising the maintenance or inspection program, as applicable, to incorporate more restrictive, instructions and/or airworthiness limitations that the manufacturer has recently issued. We are proposing this AD to address the unsafe condition on these products.

DATES: We must receive comments on this SNPRM by January 30, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this SNPRM, contact Airbus service information identified in this final rule, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

For Messier-Bugatti-Dowty service information identified in this SNPRM, contact Messier-Bugatti USA, One Carbon Way, Walton, KY 41094; telephone 859-525-8583; fax 859-485 8827; email americascsc@safranmbd.com.

You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-8428; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2015-8428; Directorate Identifier 2014-NM-032-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued an NPRM to amend 14 CFR part 39 to supersede AD 2011-17-09, Amendment 39-16773 (76 FR 53305, August 26, 2011) (“AD 2011-17-09”); and AD 2012-25-12, Amendment 39-17293 (77 FR 75825, December 26, 2012) (“AD 2012-25-12”). AD 2011-17-09 applies to all Airbus Model A330-200 series airplanes, -200 Freighter, and -300 series airplanes. AD 2012-25-12 applies to all Airbus Model A330-200 and -300 series airplanes. The NPRM published in the Federal Register on January 13, 2016 (81 FR 1570) (“the NPRM”). The NPRM was prompted by revisions to certain airworthiness limitations items (ALI) documents, which specify more restrictive instructions and/or airworthiness limitations. The NPRM proposed to require revising the maintenance or inspection program, as applicable, to incorporate new or revised airworthiness limitation requirements.

The European Aviation Safety Agency (EASA), which is the Technical Agent for the Member States of the European Union, has issued EASA Airworthiness Directive, 2014-0009, dated January 8, 2014 (referred to after this as the Mandatory Continuing Airworthiness Information, or “the MCAI”), to correct an unsafe condition for all Airbus Model A330-200, -200 Freighter, and -300 series airplanes; and Model A340-200, -300, -500, and -600 series airplanes. The MCAI states:

The airworthiness limitations for Airbus aeroplanes are currently published in Airworthiness Limitations Section (ALS) documents.

The instructions and airworthiness limitations applicable to the Safe Life Airworthiness Limitation Items (SL ALI) are given in Airbus A330 ALS Part 1 and A340 ALS Part 1, which are approved by EASA.

The revision 07 of Airbus A330 and A340 ALS Part 1 introduces more restrictive instructions and/or airworthiness limitations. Failure to comply with this revision could result in an unsafe condition.

For the reason described above, this [EASA] AD retains the requirements of EASA AD 2012-0179, which is superseded, and requires accomplishment of the actions specified in Airbus A330 or A340 ALS Part 1 revision 07.

In addition, this [EASA] AD also supersedes EASA AD 2011-0122-E and EASA AD 2011-0212, whose requirements have been transferred into Airbus A330 and A340 ALS Part 1 revision 07.

The unsafe condition is fatigue cracking, accidental damage, and corrosion in certain principal structural elements, and possible failure of certain life limited parts, which could result in reduced structural integrity of the airplane.

You may examine the MCAI in the AD docket on the Internet at http://www.regulations.gov by searching for and locating Docket No. FAA-2015-8428.

Actions Since the NPRM Was Issued

Since we issued the NPRM, Airbus has issued Airbus A330 ALS Part 1, Safe Life Airworthiness Limitation Items (SL-ALI), Revision 08, dated April 11, 2016, which specifies more restrictive instructions and/or airworthiness limitations.

Related Rulemaking

We are considering similar rulemaking for Model A340-200, -300, -500, and -600 series airplanes that would revise the maintenance or inspection program, as applicable, to incorporate more restrictive instructions and/or airworthiness limitations. Currently, there are no U.S.-registered Model A340 series airplanes.

Airworthiness Limitations Based on Type Design

The FAA recently became aware of an issue related to the applicability of ADs that require incorporation of an ALS revision into an operator's maintenance or inspection program.

Typically, when these types of ADs are issued by civil aviation authorities of other countries, they apply to all airplanes covered under an identified type certificate (TC). The corresponding FAA AD typically retains applicability to all of those airplanes.

In addition, U.S. operators must operate their airplanes in an airworthy condition, in accordance with 14 CFR 91.7(a). Included in this obligation is the requirement to perform any maintenance or inspections specified in the ALS, and in accordance with the ALS as specified in 14 CFR 43.16 and 91.403(c), unless an alternative has been approved by the FAA.

When a TC is issued for a type design, the specific ALS, including revisions, is a part of that type design, as specified in 14 CFR 21.31(c).

The sum effect of these operational and maintenance requirements is an obligation to comply with the ALS defined in the type design referenced in the manufacturer's conformity statement. This obligation may introduce a conflict with an AD that requires a specific ALS revision if new airplanes are delivered with a later revision as part of their type design.

To address this conflict, the FAA has approved alternative methods of compliance (AMOCs) that allow operators to incorporate the most recent ALS revision into their maintenance/inspection programs, in lieu of the ALS revision required by the AD. This eliminates the conflict and enables the operator to comply with both the AD and the type design.

However, compliance with AMOCs is normally optional, and we recently became aware that some operators choose to retain the AD-mandated ALS revision in their fleet-wide maintenance/inspection programs, including those for new airplanes delivered with later ALS revisions, to help standardize the maintenance of the fleet. To ensure that operators comply with the applicable ALS revision for newly delivered airplanes containing a later revision than that specified in an AD, we plan to limit the applicability of ADs that mandate ALS revisions to those airplanes that are subject to an earlier revision of the ALS, either as part of the type design or as mandated by an earlier AD.

This SNPRM therefore applies to Model A330-200, -200 Freighter, and -300 series airplanes with an original certificate of airworthiness or original export certificate of airworthiness that was issued on or before the date of approval of the ALS revision identified in this SNPRM. Operators of airplanes with an original certificate of airworthiness or original export certificate of airworthiness issued after that date must comply with the airworthiness limitations specified as part of the approved type design and referenced on the TC data sheet.

Related Service Information Under 1 CFR Part 51

Airbus has issued Airbus A330 ALS Part 1, SL-ALI, Revision 08, dated April 11, 2016. Messier-Bugatti-Dowty has issued Service Letter A33-34 A20, Revision 7, including Appendices A through F, dated July 20, 2012. This service information describes Safe Life Airworthiness Limitation Items SL-ALI for the landing gear. This service information is distinct since it was issued by two different manufacturers for different purposes.

This service information is reasonably available because the interested parties have access to it through their normal course of business or by the means identified in the ADDRESSES section.

Comments

We gave the public the opportunity to participate in developing this proposed AD. We considered the comments received.

Request To Specify New Service Information

Air France requested that we revise paragraph (i) of the proposed AD to include Messier-Bugatti-Dowty Service Letter A33-34 A20, Revision 7, including Appendices A through F, dated July 20, 2012, as the required service information.

We agree with the commenter's request. The changes in Messier-Bugatti-Dowty Service Letter A33-34 A20, Revision 7, including Appendices A through F, dated July 20, 2012, do not specify additional work. We have revised paragraph (i) of this proposed AD to specify using Messier-Dowty Service Letter A33-34 A20, Revision 5, including Appendices A through F, dated July 31, 2009; or Messier-Bugatti-Dowty Service Letter A33-34 A20, Revision 7, including Appendices A through F, dated July 20, 2012.

Requests To Specify Airbus A330 Variations

Air France requested that we revise paragraph (k) of the proposed AD to list all of the Airbus A330 variations to Airbus A330 ALS Part 1, SL-ALS, Revision 07, dated September 23, 2013, applicable at the effective date of this AD. Air France submitted a list of the requested variations.

American Airlines (AAL) requested that we add three Airbus A330 variations to paragraph (k) of the proposed AD. AAL stated that the NPRM does not include two variation documents that AAL currently utilizes as part of its approved maintenance program.

We partially agree with the commenters' requests. Airbus has issued A330 ALS Part 1, SL-ALI, Revision 08, dated April 11, 2016. Therefore, the variations for Airbus A330 ALS Part 1, SL-ALI, Revision 07, dated September 23, 2013, are no longer applicable to this SNPRM.

We have changed paragraph (k) of this proposed AD to reference Airbus A330 ALS Part 1, SL-ALI, Revision 08, dated April 11, 2016. We have also changed paragraph (c) of this proposed AD to reference the date of April 11, 2016, for the certificate of airworthiness.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the NPRM. As a result, we have determined that it is necessary to reopen the comment period to provide additional opportunity for the public to comment on this SNPRM.

This SNPRM would require revisions to certain operator maintenance documents to include new actions (e.g., inspections). Compliance with these actions is required by 14 CFR 91.403(c). For airplanes that have been previously modified, altered, or repaired in the areas addressed by this SNPRM, the operator may not be able to accomplish the actions described in the revisions. In this situation, to comply with 14 CFR 91.403(c), the operator must request approval for an AMOC according to paragraph (m)(1) of this proposed AD. The request should include a description of changes to the required actions that will ensure the continued damage tolerance of the affected structure.

Costs of Compliance

We estimate that this SNPRM affects 82 airplanes of U.S. registry.

The actions that are required by AD 2011-17-09, and retained in this SNPRM, take about 1 work-hour per product, at an average labor rate of $85 per work-hour. Based on these figures, the estimated cost of the actions that are required by AD 2011-17-09 is $85 per product.

The actions that are required by AD 2012-25-12, and retained in this SNPRM, take about 16 work-hours per product (2 main landing gear (MLG) bogie beams per airplane), at an average labor rate of $85 per work-hour. Required parts cost about $255,000 per MLG bogie beam. Based on these figures, the estimated cost of the actions that are required by AD 2012-25-12 is up to $256,360 per MLG bogie beam.

We also estimate that it would take about 1 work-hour per product to comply with the basic requirements of this SNPRM. The average labor rate is $85 per work-hour. Based on these figures, we estimate the cost of this SNPRM on U.S. operators to be $6,970, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-17-09, Amendment 39-16773 (76 FR 53305, August 26, 2011); and AD 2012-25-12, Amendment 39-17293 (77 FR 75825, December 26, 2012); and adding the following new AD:

Airbus: Docket No. FAA-2015-8428; Directorate Identifier 2014-NM-032-AD.

(a) Comments Due Date

We must receive comments by January 30, 2017.

(b) Affected ADs

This AD replaces AD 2011-17-09, Amendment 39-16773 (76 FR 53305, August 26, 2011) (“AD 2011-17-09”); and AD 2012-25-12, Amendment 39-17293 (77 FR 75825, December 26, 2012) (“AD 2012-25-12”).

(c) Applicability

This AD applies to the Airbus airplanes identified in paragraphs (c)(1), (c)(2), and (c)(3) of this AD, certificated in any category, with an original certificate of airworthiness or original export certificate of airworthiness issued on or before April 11, 2016.

(1) Airbus Model A330-201, -202, -203, -223, and -243 airplanes.

(2) Airbus Model A330-223F and -243F airplanes.

(3) Airbus Model A330-301, -302, -303, -321, -322, -323, -341, -342, and -343 airplanes.

(d) Subject

Air Transport Association (ATA) of America Code 05, Periodic inspections.

(e) Reason

This AD was prompted by revisions to certain airworthiness limitations items (ALI) documents, which specify more restrictive instructions and/or airworthiness limitations. We are issuing this AD to detect and correct fatigue cracking, accidental damage, or corrosion in principal structural elements, and possible failure of certain life limited parts, which could result in reduced structural integrity of the airplane.

(f) Compliance

Comply with this AD within the compliance times specified, unless already done.

(g) Retained Maintenance Program Revision, With New Terminating Action

This paragraph restates the requirements of paragraph (h) of AD 2011-17-09, with new terminating action. Within 3 months after September 30, 2011 (the effective date of AD 2011-17-09): Revise the maintenance program by incorporating Airbus A330 ALS Part 1, “Safe Life Airworthiness Limitation Items (SL-ALI), Revision 05, dated July 29, 2010. Comply with all Airbus A330 ALS Part 1, SL-ALI, Revision 05, dated July 29, 2010, at the times specified therein. Accomplishing the actions specified in paragraph (k) of this AD terminates the requirements of this paragraph.

(h) Retained Limitation of No Alternative Intervals or Limits, With No Changes

This paragraph restates the requirements of paragraph (i) of AD 2011-17-09, with no changes. Except as provided by paragraph (m) of this AD, after accomplishment of the actions specified in paragraph (g) of this AD, no alternatives to the maintenance tasks, intervals, or limitations specified in paragraph (g) of this AD may be used.

(i) Retained Bogie Beam Replacement, With Specific Delegation Approval Language, New Terminating Action, and New Service Information

This paragraph restates the requirements of paragraph (g) of AD 2012-25-12, with specific delegation approval language and terminating action and new service information. For airplanes identified in paragraphs (c)(1) and (c)(3) of this AD: At the later of the times specified in paragraphs (i)(1) and (i)(2) of this AD, replace all main landing gear (MLG) bogie beams having part number (P/N) 201485300, 201485301, 201272302, 201272304, 201272306, or 201272307, except those that have serial number (S/N) S2A, S2B, or S2C, as identified in Messier-Dowty Service Letter A33-34 A20, Revision 5, including Appendices A through F, dated July 31, 2009; or Messier-Bugatti-Dowty Service Letter A33-34 A20, Revision 7, including Appendices A through F, dated July 20, 2012; with a new or serviceable part, using a method approved by the Manager, International Branch, ANM-116, Transport Airplane Directorate, FAA, or the European Aviation Safety Agency (EASA) (or its delegated agent). As of the effective date of this AD, the applicable MLG bogie beams specified in this paragraph must be replaced using a method approved by the Manager, International Branch, ANM-116, Transport Airplane Directorate, FAA; or EASA; or Airbus's EASA Design Organization Approval (DOA). Accomplishing the actions specified in paragraph (k) of this AD terminates the requirements of this paragraph.

(1) At the applicable time specified in paragraphs (i)(1)(i), (i)(1)(ii), and (i)(1)(iii) of this AD.

(i) For Model A330-201, -202, -203, -223, -243 series airplanes, weight variant (WV)02x, WV05x (except WV058), and WV06x series: Before the accumulation of a life limit of 50,000 landings or 72,300 total flight hours, whichever occurs first from the first installation of a MLG bogie beam on the airplane.

(ii) For Model A330-201, -202, -203, -223, -243 WV058 series airplanes: Before the accumulation of a life limit of 50,000 landings or 57,900 total flight hours, whichever occurs first from the first installation of a MLG bogie beam on the airplane.

(iii) For Model A330-301, -302, -303, -321, -322, -323, -341, -342, -343 series airplanes, WV00x, WV01x, WV02x, and WV05x series: Before the accumulation of a life limit of 46,000 landings or 75,000 total flight hours, whichever occurs first from the first installation of a MLG bogie beam on the airplane.

(2) Within 6 months after January 30, 2013 (the effective date of AD 2012-25-12).

(j) Retained Parts Installation Limitation, With New Terminating Action

This paragraph restates the requirements of paragraph (h) of AD 2012-25-12, with new terminating action. For airplanes identified in paragraphs (c)(1) and (c)(3) of this AD, as of January 30, 2013 (the effective date of AD 2012-25-12), a MLG bogie beam having any part number identified in paragraph (i) of this AD may be installed on an airplane, provided its life has not exceeded the life limit specified in paragraphs (i)(1)(i), (i)(1)(ii), and (i)(1)(iii) of this AD, and is replaced with a new or serviceable part before reaching the life limit specified in paragraphs (i)(1)(i), (i)(1)(ii), and (i)(1)(iii) of this AD. Accomplishing the actions specified in paragraph (k) of this AD terminates the requirements of this paragraph.

(k) New Maintenance or Inspection Program Revision

Within 3 months after the effective date of this AD: Revise the maintenance or inspection program, as applicable, by incorporating the information in Airbus A330 ALS Part 1, SL-ALI, Revision 08, dated April 11, 2016. The initial compliance times for the actions specified in Airbus A330 ALS Part 1, SL-ALI, Revision 08, dated April 11, 2016, are at the times specified in Airbus A330 ALS Part 1, SL-ALI, Revision 08, dated April 11, 2016, or within 3 months after the effective date of this AD, whichever occurs later. Accomplishing the actions specified in this paragraph terminates the requirements specified in paragraphs (g) through (j) of this AD.

(l) New Limitation of No Alternative Actions or Intervals

After the maintenance or inspection program, as applicable, has been revised, as required by paragraph (k) of this AD, no alternative actions (e.g., inspections) or intervals may be used unless the actions or intervals are approved as an AMOC in accordance with the procedures specified in paragraph (m)(1) of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(n) Related Information

(1) For Airbus service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(2) For Messier-Bugatti-Dowty service information identified in this AD, contact Messier-Bugatti USA, One Carbon Way. Walton, KY 41094; telephone 859-525-8583; fax 859-485 8827; email americascsc@safranmbd.com.

(3) You may view this service information at the FAA, Transport Airplane Directorate, 1601 Lind Avenue SW., Renton, WA. For information on the availability of this material at the FAA, call 425-227-1221.

Issued in Renton, Washington, on November 22, 2016.
Michael Kaszycki,
Acting Manager, Transport Airplane Directorate, Aircraft Certification Service.

[FR Doc. 2016-28802 Filed 12-15-16; 8:45 am]

BILLING CODE 4910-13-P